ENVIRONMENTAL PROTECTION AGENCY

40 CFR Part 261

Identification and Listing of Hazardous Waste

CFR Correction

In Title 40 of the Code of Federal Regulations, Parts 260 to 265, revised as of July 1, 2013, on page 37, in § 261.3, paragraphs (a)(2)(v)(A) and (B) are reinstated to read as follows:

§ 261.3 Definition of hazardous waste.

(a) * * *

(2) * * *

(v) * * *

(A) The rebuttable presumption does not apply to metalworking oils/fluids containing chlorinated paraffins, if they are processed, through a tolling agreement, to reclaim metalworking oils/fluids. The presumption does apply to metalworking oils/fluids if such oils/fluids are recycled in any other manner, or disposed.

(B) The rebuttable presumption does not apply to used oils contaminated with chlorofluorocarbons (CFCs) removed from refrigeration units where the CFCs are destined for reclamation. The rebuttable presumption does apply to used oils contaminated with CFCs that have been mixed with used oil from sources other than refrigeration units.

* * * * *

[FR Doc. 2014-14607 Filed 6-19-14; 8:45 am]

BILLING CODE 1505-01-D